DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Minnesota Northern Railroad

[Waiver Petition Docket Number FRA-2001-10214]

The Minnesota Northern Railroad owns and operates a caboose, number MNN 019. This caboose is not used in regular service, but only on a limited basis in work train service, to transport railroad officials and private persons for typical railroad business purposes. The caboose will primarily be stored on a live rail siding. The car operates on the Minnesota Northern Railroad in a rural/suburban area which is 50% wooded and 50% cultivated farm land. The MNN requests relief from the requirements of Title 49 Code of Federal Regulations (CFR) § 223.13 Requirements for existing cabooses due to the infrequent use of the caboose, the planned usage for work and special train service, and the cost of installing compliant glazing.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10214) and must be submitted to the Docket Clerk, DOT Central Docket Management Facility, Room P1-401 (Plaza Level), 400 Seventh Street, S.W., Washington, D.C. 20590. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's Web site at http://dms.dot.gov.

Issued in Washington, DC, on January 2, 2002.
Grady C. Cothen, Jr.,
Deputy Associate Administrator for Safety Standards and Program Development.

[FR Doc. 02-313 Filed 1-4-02; 8:45 am]

BILLING CODE 4910-06-P